ENVIRONMENTAL PROTECTION AGENCY

40 CFR Part 799

[EPA-HQ-OPPT-2009-0555; FRL-8428-8]

RIN 2070-AB79 and RIN 2070-AC76

Withdrawal of Proposed Rules; Discontinuing Rulemaking Efforts Listed in the Unified Agenda of Federal Regulatory and Deregulatory Actions

AGENCY: Environmental Protection Agency (EPA).

ACTION: Proposed rules; withdrawals.

SUMMARY: EPA is withdrawing two proposed rules for which the Agency no longer intends to issue a final rule. This document identifies the proposed rules and explains the Agency’s decision not to pursue a final rulemaking at this time. This withdrawal of these proposed rules does not preclude the Agency from initiating the same or similar rulemaking at a future date. It does, however, close out the entry for these proposed rules in the EPA Semi-Annual Regulatory Agenda, published as part of the Unified Agenda of Federal Regulatory and Deregulatory Actions (Unified Agenda). Should the Agency decide at some future date to initiate the same or similar rulemaking, it will add an appropriate new entry to the EPA Semi-Annual Regulatory Agenda to reflect the initiation of the action.

ADDRESSES: EPA has established a docket for this action under docket identification (ID) number EPA-HQ-OPPT-2009-0555. All documents in the docket are listed in the docket index available at http://www.regulations.gov. Although listed in the docket index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Robert Jones, Chemical Control Division (7405M), Office of Pollution Prevention and Toxics, Environmental Protection Agency, 1200 Pennsylvania Ave., NW., Washington, DC 20460-0001; telephone number: (202) 564-8161; e-mail address: jones.robert@epa.gov.

For general information contact: The TSCA-Hotline, ABVI-Goodwill, 422 South Clinton Ave., Rochester, NY 14620; telephone number: (202) 554-1404; e-mail address: TSCA-Hotline@epa.gov.

SUPPLEMENTARY INFORMATION:

I. Does this Action Apply to Me?

This action is directed to the public in general, and may be of particular interest to those persons who follow proposed rules issued under the Toxic Substances Control Act (TSCA). Since others may also be interested, the Agency has not attempted to describe all the specific entities potentially interested.

II. Why is EPA Issuing this Withdrawal Document?

This document serves two purposes:

1. It announces to the public that EPA is withdrawing certain proposed rules for which the Agency no longer intends to issue a final rule .

2. It officially terminates the ongoing rulemaking activities, which allows the Agency to close out the individual rulemaking entries for these actions that appear in the Agency’s Semi-Annual Regulatory Agenda.

All agencies publish Semi-Annual Regulatory Agendas describing regulatory actions they are developing or have recently completed. These Semi-Annual Regulatory Agendas are published in the Federal Register, usually during the spring and fall of each year, as part of the Unified Agenda. The Agency publishes the EPA Semi-Annual Regulatory Agenda to update the public about: Regulations and major policies currently under development, reviews of existing regulations and major policies, and rules and major policies completed or canceled since the last Semi-Annual Regulatory Agenda. (See http://www.epa.gov/lawsregs/search/regagenda.html.)

We believe our actions will be more cost-effective and protective if our development process includes stakeholders working with us to identify the most practical and effective solutions to problems and we stress this point most strongly in all of our training programs for rule and policy developers. The Semi-Annual Regulatory Agenda is often used as a tool to solicit interest and participation from stakeholders. As such, EPA believes that the public is best served by a Semi-Annual Regulatory Agenda that reflects active rulemaking efforts. The withdrawal of these inactive rulemaking efforts will streamline the Semi-Annual Regulatory Agenda and allow the public to better identify and focus on those rulemaking activities that are active.

For the individual reasons described in this document, the Agency has decided not to complete these actions at this time. By withdrawing the proposed rules, the Agency is eliminating the pending nature of that regulatory action. Should the Agency determine to pursue anything in these areas in the future, it will issue a new proposed rule and create a new entry in the Agency’s Semi-Annual Regulatory Agenda.

III. Which Rulemakings are Being Withdrawn?

The following two proposed rules are being withdrawn. The titles match that used in the Semi-Annual Regulatory Agenda, and the “RIN” refers to the regulatory identifier number assigned to the rulemaking effort in the Semi-Annual Regulatory Agenda.

A. The Proposed Test Rule for Certain Chemicals on the ATSDR/EPA CERCLA Priority List of Hazardous Substances (RIN 2070-AB79)

1. What was proposed? In the Federal Register issue of October 20, 2006 (71 FR 61926) (FRL-8081-3), EPA published the “Proposed Test Rule for Certain Chemicals on the ATSDR/EPA CERCLA Priority List of Hazardous Substances” for the consideration of testing for four chemicals (chloroethane, hydrogen cyanide, methylene chloride, and sodium cyanide). The chemicals are listed on the Agency for Toxic Substances and Disease Registry (ATSDR)/EPA priority list of hazardous substances which is compiled under the Comprehensive Environmental Response Compensation and Liability Act (CERCLA).

2. Why is it being withdrawn? In the proposal for this test rule, EPA explained that the reason EPA proposed to use its authority under section 4 of TSCA was to support ATSDR's Substance Specific Applied Research Program, a program for collecting data and other information needed for developing health assessments pursuant to CERCLA, 42 U.S.C. 9601 et seq. ATSDR had referred the chemicals subject to the proposed rule to EPA under authority of section 104(i) of CERCLA, 42 U.S.C. 9604(i). Since then, ATSDR has informed EPA that it no longer needs EPA to finalize this proposed rule. Therefore, OPPT is withdrawing this proposed test rule and removing it from the EPA Semi-Annual Regulatory Agenda.

3. Where can I get more information about this action? EPA established a docket for this action under docket ID number EPA-HQ-OPPT-2002-0073, which is available at regulations.gov. See ADDRESSES for more detailed information about this docket.

B. The Proposed Test Rule for Hazardous Air Pollutants (RIN 2070-AC76)

1. What was proposed? In the Federal Register issue of June 26, 1996 (61 FR 33177) (FRL-4869-1), EPA published the “Proposed Test Rule for Hazardous Air Pollutants” (HAPs). This document proposed using EPA's authority under section 4 of TSCA for testing 21 chemicals that are listed as hazardous air pollutants under section 112 of the Clean Air Act (CAA) and solicited proposals for enforceable consent agreements.

2. Why is it being withdrawn? EPA's Office of Air and Radiation (OAR), along with EPA's Office of Research and Development (ORD), referred the chemicals subject to this proposed rule to OPPT for obtaining certain health effects data to assess the risk remaining after the imposition of technology-based emissions standards required by CAA section 112(d), 42 U.S.C. 7412(d). OPPT explained that the reason it proposed to use EPA's authority under section 4 of TSCA was to support OAR and ORD in meeting EPA's statutory obligation under CAA section 112(f), 42 U.S.C. 7412(f). After the proposal was issued in 1996, OAR and ORD informed OPPT that they no longer support the need for a final rule. Additionally, OPPT has determined that the record does not address scientific information developed since the original proposal was issued in 1996. Therefore OPPT is withdrawing this proposed test rule and removing it from the EPA Semi-Annual Regulatory Agenda.

3. Where can I get more information about this action? EPA established a docket for this action under docket control number OPPTS-42187, which is available at regulations.gov. See ADDRESSES for more detailed information about this docket.

List of Subjects in 40 CFR Part 799

Environmental protection, Chemicals, Hazardous substances, Health, Reporting and recordkeeping requirements.

Dated: September 8, 2010.
Stephen A. Owens,
Assistant Administrator, Office of Chemical Safety and Pollution Prevention.

[FR Doc. 2010-22862 Filed 9-13-10; 8:45 am]

BILLING CODE 6560-50-S